DEPARTMENT OF AGRICULTURE

Forest Service

Establishment of Middle Mississippi Purchase Unit, Alexander, Jackson, and Union Counties, IL

AGENCY: Forest Service, USDA.

ACTION: Notice.

SUMMARY: On October 24, 2004, the Deputy Under Secretary of Natural Resources and Environment created the Middle Mississippi Purchase Unit. This purchase unit comprises 60,000 acres, more or less, within Alexander, Jackson, and Union Counties, Illinois. A copy of the establishment document, which includes the legal description of the lands within the purchase unit, appears at the end of this notice.

EFFECTIVE DATE: Establishment of this purchase unit was effective October 24, 2004.

ADDRESSES: A copy of the map showing the purchase unit is on file and available for public inspection in the Office of the Director, Lands Staff, 4th Floor-South, Sidney R. Yates Federal Building, Forest Service, USDA, 201 14th Street, SW., Washington, DC 20250, between the hours of 8:30 a.m. and 4:30 p.m. on business days. Those wishing to inspect the map are encouraged to call ahead to (202) 205-1248 to facilitate entry into the building.

FOR FURTHER INFORMATION CONTACT: Gregory C. Smith, Acting Director, Lands Staff, Forest Service, USDA, P.O. Box 96090, Washington, DC 20090-6090, telephone: (202) 205-1248.

Dated: January 19, 2005.
Gloria Manning,
Associate Deputy Chief, National Forest System.

Establishment of the Middle Mississippi Purchase Unit; Alexander, Jackson, and Union Counties, State of Illinois

The following described lands lying adjacent or proximate to the Shawnee National Forest are determined to be suitable for the protection of the watersheds of navigable streams and for other purposes in accordance with section 6 of the Weeks Act of 1911 (16 U.S.C. 515). Therefore, in furtherance of the authority of the Secretary of Agriculture pursuant to the Weeks Act of 1911, as amended, including section 17 of the National Forest Management Act of 1976 (Pub. L. 94-588; 90 Stat. 2961), these lands are hereby designated and established as the Middle Mississippi purchase unit.

All that certain tract of land lying within the watershed of the Mississippi River and other streams and tributaries of the Mississippi River Floodplain. The intent of this description is to describe a portion of land in the counties of Jackson, Union, and Alexander, and lying in the following Townships: Township 10 South, Range 3 West, Township 10 South, Range 4 West, Township 11 South, Range 3 West, Township 11 South, Range 4 West, Township 12 South, Range 2 West, Township 12 South, Range 3 West, Township 12 South, Range 4 West, Township 13 South, Range 2 West, Township 13 South, Range 3 West, Township 14 South, Range 3 West, Township 14 South, Range 4 West; said tract more particularly described as follows:

Beginning at a point on the Westerly line of the Shawnee National Forest, said point being near the center of Section 18, Township 10 South, Range 3 West, and being near the intersection of State Route 3 and Power Plant Road, Jackson County, Illinois; thence along said westerly line of Shawnee National Forest, through portions of Township 10 South, Range 3 West, and Township 10 South Range 4 West, to a point on the banks of the Mississippi River; thence departing said Shawnee National, Southerly, along the meanders of the banks of the Mississippi River, passing through portions of Jackson, Union and Alexander counties, Illinois, and passing through portions of Township 10 South, Range 4 West, Township 11 South Range 4 West, Township 12 South, Range 4 West, Township 12 South, Range 3 West, Township 13 South, Range 3 West, Township 14 South, Range 3 West, Township 14 South, Range 4 West, to a point on the South line of Section 32, Township 14 South, Range 3 West; thence departing said meanders of the banks of the Mississippi River, Easterly, along the South line of Township 14 South, Range 3 West, to a point on the Westerly line of the Shawnee National Forest, said point being near the South Quarter corner of Section 33, Township 14 South, Range 3 West, and being near the city of Gale; thence departing said South line of Township 14 South, Range 3 West, Northerly, along the Westerly line of the Shawnee National Forest passing through portions of Alexander, Union and Jackson counties, and passing through portions of Township 14 South, Range 3 West, Township 13 South, Range 3 West, Township 13 South, Range 2 West, Township 12 South, Range 2 West, Township 12 South, Range 3 West, Township 11 South, Range 3 West, and Township 10 South Range 3 West, to the point of beginning.

Executed in Washington, DC this 23rd day of October, 2004.

Mark Rey,

Under Secretary, Natural Resources and Environment.

[FR Doc. 05-1680 Filed 1-28-05; 8:45 am]

BILLING CODE 3410-11-P